ENVIRONMENTAL PROTECTION AGENCY

[EPA-HQ-OPP-2015-0022 FRL-9943-20]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before April 15, 2016.

ADDRESSES: Submit your comments, identified by docket identification (ID) number EPA-HQ-OPP-2015-0022 and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Director, Biopesticides and Pollution Prevention Division (BPPD) (7511P), email address: BPPDFRNotices@epa.gov; or Susan Lewis, Director, Registration Division (RD) (7505P), email address: RDFRNotices@epa.gov. The mailing address for each contact person is: Office of Pesticide Programs, Environmental Protection Agency, 1200 Pennsylvania Ave. NW., Washington, DC 20460-0001. The main telephone number is (703) 305-7090. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

1. EPA Registration Number: 264-1118 and 264-1119. Docket ID number: EPA-HQ-OPP-2015-0559. Applicant: Bayer CropScience, 2 T.W. Alexander Drive, Research Triangle Park, NC 27709. Active ingredient: Penflufen. Product type: fungicide. Proposed use: Onion Subgroups 3-07A; 3-07B. Contact: RD.

2. EPA Registration Number: 264-1118; 264-1119; and 264-1122. Docket ID number: EPA-HQ-OPP-2015-0559. Applicant: Bayer CropScience, 2 T.W. Alexander Drive, Research Triangle Park, NC 27709. Active ingredient: Penflufen. Product type: fungicide. Proposed uses: Sugarbeet seed treatment. Contact: RD.

3. EPA File Symbol: 264-1141 and 264-1143. Docket ID number: EPA-HQ-OPP-2013-0226. Applicant: Bayer CropScience LP, 2 T.W. Alexander Drive, P.O. Box 12014, Research Triangle Park, NC 27709. Active ingredient: Flupyradifurone. Product Type: Insecticide. Proposed Uses: Abiu; Akee Apple; Avocado; Bacury; Banana; Binjai; Caneberry subgroup 13-07A; Canistel; Cilantro; Cupuacú; Etambe; Greenhouse Cucumbers; Greenhouse Lettuce; Greenhouse Pepper; Greenhouse Tomato; Jatobá; Kava roots and leaves; Kei Apple; Langstat; Lanjut; Lucuma; Mabolo; Mango; Mangosteen; Indoor Ornamentals; Paho; Papaya; Pawpaw common; Pelipisam; Pequi; Pequia; Persimmon, American; Plantain; Pomegranate; Poshte; Quandong; Quinoa; Residential Ornamentals; Sapote; Sataw; Screw-Pine; Star apple, Tamarind-of-the-Indies; Stone Fruit group 12-12; and Wild Loquat. Contact: RD.

4. EPA Registration Numbers: 279-3242, 279-3181, 279-3241, 279-3276 and 279-3194. Docket ID number: EPA-HQ-OPP-2015-0030. Applicant: FMC Corporation, Agricultural Products Group, 1735 Market Street Philadelphia, PA 19103. Active ingredient: Carfentrazone-ethyl. Product type: Herbicide. Proposed uses: Artichoke; Asparagus; Berry, low growing subgroup 13-07G; Bushberry subgroup 13-07B; Caneberry subgroup 13-07A; Fruit, citrus group 10-10; Fruit, pome group 11-10; Fruit, small vine climbing subgroup 13-07F, except fuzzy kiwi fruit; Fruit, stone group 12-12; Grain, cereal, forage, group 16; Grain, cereal, hay, group 16; Grain, cereal, stover, group 16, Grain, cereal, straw, group 16; Nut, tree group 14-12; Oilseed group 20; Peppermint, tops; Psyllium, seed; Quinoa, grain; Spearmint, tops; Teff, grain; Teff, forage; Teff, straw; Teff, hay; Vegetable, bulb group 3-07; and Vegetable, fruiting group 8-10. Contact: RD.

5. EPA Registration Numbers: 279-3460, 279-3052, 279-3158. Docket ID number: EPA-HQ-OPP-2015-0763. Applicant: FMC, 1735 Market Street, Philadelphia, PA 19103. Active ingredient: Clomazone. Product type: Herbicide. Proposed uses: Asparagus and Edamame. Contact: RD.

6. EPA Registration Number: 5481-433 and 5481-429. Docket ID number: EPA-HQ-OPP-2014-0769. Applicant: AMVAC Chemical Corporation, 4695 MacArthur Court, Suite 1200, Newport Beach, CA 92660. Active ingredient: 1-Naphthaleneacetic acid ester. Product type: Fungicide. Proposed use: Pomegranate. Contact: RD.

7. EPA Registration Number: 7969-261, 7969-262. Docket ID number: EPA-HQ-OPP-2015-0825. Applicant: BASF Corporation, 26 Davis Drive, P.O. Box 13528, Research Triangle Park, NC 27709. Active ingredient: Topramezone (3-(4,5-Dihydro-isoxazol-3-yl)-4-methanesulfonyl-2-methylphenyl]-(5-hydroxyl-1-methyl-1H-pyrazol-4-yl)methanone). Product type: Herbicide. Proposed use: Sugarcane. Contact: RD.

8. EPA Registration Number: 10163-277. Docket ID number: EPA-HQ-OPP-2015-0797. Applicant: Gowan Company, P.O. Box 5569, Yuma, AZ, 85366-5569. Active ingredient: Hexythiazox. Product type: Insecticide. Proposed use: Sugar beet. Contact: RD.

9. EPA Registration Number: 10163-277. Docket ID number: EPA-HQ-OPP-2015-0795. Applicant: Gowan Company, P.O. Box 5569, Yuma, AZ, 85366-5569. Active ingredient: Hexythiazox. Product type: Insecticide. Proposed use: Bermudagrass. Contact: RD.

10. EPA Registration Number: 10163-322. Docket ID number: EPA-HQ-OPP-2016-0029. Applicant: Gowan Company, P.O. Box 5569, Yuma, AZ 85366-5569. Active ingredient: Fenazaquin. Product type: Miticide/Insecticide. Proposed uses: Hops and Tree nut crop group 14-12. Contact: RD.

11. EPA Registration Number or File Symbol: 11678-73 and 66222-EAE. Docket ID number: EPA-HQ-OPP-2015-0569. Applicant: Makhteshim Agan of North America, 3120 Highlands Blvd., Suite 100, Raleigh, NC 27604. Active ingredient: Fluensulfone. Product type: Insecticide. Proposed Use: Tuber and corm vegetables subgroup 1C. Contact: RD.

12. EPA Registration Numbers: 59639-119, 59639-99, 59639-207, 59639-127, 59639-97. Docket ID number: EPA-HQ-OPP-2015-0658. Applicant: Valent USA Corporation, 1600 Riviera Avenue, Suite 200. Walnut Creek, CA 94596-8025. Active ingredient: flumioxazin 2-[7-fluoro-3,4-dihydro3-oxo-4-(2-proponyl)-2H-1,4-benzoxazin-6-yl]-4,5,6,7-tetrahydro-1Hisoindole-1,3(2H)-dione. Product type: Herbicide. Proposed uses: Berry, low growing, subgroup 13-07G; Brassica, head and stem, subgroup 5A; caneberry, subgroup 13-07A; citrus oil; clover, forage; clover, hay; fruit, citrus group 10-10; fruit, pome group 11-10; fruit, small vine climbing, except fuzzy kiwifruit, subgroup 13-07F; fruit, stone, group 12-12; nut, tree group 14-12; onion, bulb subgroup 3-07A; and vegetable, fruiting group 8-10. Contact: RD.

13. EPA Registration Numbers: 66330-38 and 66330-39. Docket ID number: EPA-HQ-OPP-2015-0829. Applicant: Arysta LifeScience North America, LLC, 15410 Weston Parkway, Suite 150, Cary, NC 27513. Active ingredient: Acequinocyl. Product type: Miticide. Proposed Uses: Avocado, Dry Bean, Cucurbit Vegetables group 9, Tea, Cherry subgroup 12-12A, and Crop Group Conversions for Citrus Fruit group 10-10, Pome Fruit group 11-10, Tree Nut group 14-12, and Fruiting Vegetable group 8-10. Contact: RD.

14. EPA Registration Numbers: 66330-64 and 66330-65. Docket ID number: EPA-HQ-OPP-2015-0727. Applicant: Arysta LifeScience North America, LLC 15401 Weston Parkway, Suite 150, Cary, North Carolina 27513. Active ingredient: Fluoxastrobin. Product type: Fungicide. Proposed uses: Avocado, barley; canola (Rapeseed Subgroup 20A); and dried shelled pea and bean (except soybean) Crop Subgroup 6C. Contact: RD.

15. EPA Registration Numbers: 63588-91, 63588-92. Docket ID number: EPA-HQ-OPP-2015-0787. Applicant: K-I Chemical USA. Inc., 11 Martine Ave., Suite 970 White Plains, NY 10606. Active ingredient: Pyroxasulfone. Product type: Herbicide. Proposed uses: Flax, peanut crop subgroup 6C. Contact: RD.

16. EPA Registration Number: 71185-5. Docket ID number: EPA-HQ-OPP-2015-0820. Applicant: Geo Logic Corporation, P.O. Box 3091, Tequesta, FL 33469. Active ingredient: Oxytetracycline hydrochloride. Product type: Fungicide/Bactericide. Proposed use: Citrus Fruit Crop Group 10-10. Contact: RD.

17. File Symbol: 71512-1 and 71512-8. Docket ID number: EPA-HQ-OPP-2015-0703. Applicant: ISK Biosciences Corporation, 7470 Auburn Road, Suite A, Concord, OH, 44077. Active ingredient: Fluazinam. Product type: Fungicide. Proposed Uses: Brassica leafy group 5 (except cabbage), cabbage, mayhaw, squash/cucumber subgroup 9B, and tuberous and corm subgroup 1C. Contact: RD.

18. EPA File Symbol: 72500-EA. Docket ID number: EPA-HQ-OPP-2015-0826. Applicant: Scimetrics Ltd. Corporation, P.O. Box 1045, Wellington, CO 80549. Active ingredient: Warfarin. Product type: Rodenticide. Proposed Use: Bait applied in bait dispensers to control feral hogs. Contact: RD.

19. File Symbol: 80289-EE. EPA Registration Numbers: 80289-1, 80289-7, 80289-8 80289-18. Docket ID number: EPA-HQ-OPP-2015-0695. Applicant: Isagro S.P.A. (d/b/a Isagro USA, Inc.) 430 Davis Drive, Suite 240, Morrisville, NC 27560. Active ingredient: Tetraconazole. Product type: Fungicide. Proposed use: Cucurbit Vegetables Group (Crop Group 9) and Fruiting Vegetable Group (Crop Group 8-10). Contact: RD.

20. EPA Registration Number: 80990-1. Docket ID number: EPA-HQ-OPP-2015-0820. Applicant: Agrosource, Inc. P.O. Box 3091 Tequesta, FL 33469. Active ingredient: Oxytetracycline hydrochloride. Product type: Fungicide/Bactericide. Proposed use: Citrus Fruit Crop Group 10-10. Contact: RD.

Authority: 7 U.S.C. 136 et seq.

Dated: March 9, 2016.
G. Jeffery Herndon,
Acting Director, Registration Division, Office of Pesticide Programs.

[FR Doc. 2016-05818 Filed 3-15-16; 8:45 am]

BILLING CODE 6560-50-P